NUCLEAR REGULATORY COMMISSION

[Docket No. 50-263; NRC-2023-0031]

Northern States Power Company; Monticello Nuclear Generating Plant, Unit 1; Final Site-Specific Environmental Impact Statement

AGENCY: Nuclear Regulatory Commission.

ACTION: Notice; issuance.

SUMMARY: The U.S. Nuclear Regulatory Commission (NRC) has published a final Site-Specific Environmental Impact Statement (EIS), issued as NUREG-1437, Supplement 26, Second Renewal, “Site-Specific Environmental Impact Statement for License Renewal of Nuclear Plants Regarding Subsequent License Renewal for Monticello Nuclear Generating Plant, Unit 1, Final Report.” This EIS evaluates, on a site-specific basis, the environmental impacts of subsequent license renewal (SLR) of Facility Operating License No. DPR-22 for an additional 20 years of operation for Monticello Nuclear Generating Plant (Monticello), Unit 1. Monticello is located approximately 35 miles NW of Minneapolis, MN. Alternatives to the proposed action of subsequent license renewal for Monticello include the no-action alternative and reasonable replacement power alternatives.

DATES: NUREG-1437, Supplement 26, Second Renewal, is available as of November 15, 2024.

ADDRESSES: Please refer to Docket ID NRC-2023-0031 when contacting the NRC about the availability of information regarding this document. You may obtain publicly available information related to this document using any of the following methods:

• Federal Rulemaking Website: Go to https://www.regulations.gov and search for Docket ID NRC-2023-0031. Address questions about Docket IDs in Regulations.gov to Stacy Schumann; telephone: 301-415-0624; email: Stacy.Schumann@nrc.gov. For technical questions contact the individual listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 26, Second Renewal, is available in ADAMS under Accession No. ML24309A221.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the final site-specific EIS, NUREG-1437, Supplement 26, Second Renewal, regarding the proposed subsequent renewal of Renewed Facility Operating License No. DPR-22 for an additional 20 years of operation for Monticello, will be available for public review at the Monticello Great River Regional Library, 200 W 6th St., Monticello, MN 55362.

FOR FURTHER INFORMATION CONTACT: Jessica Umaña, Office of Nuclear Material Safety and Safeguards, U.S. Nuclear Regulatory Commission, Washington, DC 20555-0001; telephone: 301-415-5207; email: Jessica.Umana@nrc.gov.

SUPPLEMENTARY INFORMATION:

I. Background

In accordance with section 51.118 of title 10 of the Code of Federal Regulations (10 CFR), “Final environmental impact statement—notice of availability,” the NRC is making available for public inspection NUREG-1437, Supplement 26, Second Renewal, regarding the subsequent license renewal of Northern States Power Company doing business as Xcel Energy (Xcel), renewed Facility Operating License No. DPR-22 for an additional 20 years of operation for Monticello. A notice of availability of the site-specific draft EIS (DEIS) (NUREG-1437, Supplement 26, Second Renewal) was published in the Federal Register on April 24, 2024 (89 FR 31225). The U.S. Environmental Protection Agency (EPA) issued its Notice of Availability on April 19, 2024 (89 FR 28771). To align the end of EPA's comment period with the NRC's comment period, on May 3, 2024 (89 FR 36815), the public comment period was initially extended from June 3, 2024, to June 10, 2024. On June 5, 2024 (89 FR 48196), the NRC staff extended the public comment period by 15 days to June 25, 2024, and on June 14, 2024, EPA also noticed the extension of the comment period to June 25, 2024 (89 FR 50586) to allow more time for members of the public to develop and submit their comments. The public comment period on the site-specific DEIS (NUREG-1437, Supplement 26, Second Renewal) ended on June 25, 2024, and the comments received on the site-specific DEIS are addressed in the final EIS (NUREG-1437, Supplement 26, Second Renewal).

II. Discussion

The site-specific draft EIS (NUREG-1437, Supplement 26, Second Renewal) was issued for public comment on April 24, 2024 (89 FR 31225). The site-specific final EIS addresses the comments received on the site-specific draft EIS (NUREG-1437, Supplement 26, Second Renewal). As discussed in Chapter 4 of the final EIS (NUREG-1437, Supplement 26, Second Renewal), the NRC staff has determined that the adverse environmental impacts of SLR for Monticello (i.e., the continued operation of Monticello for a period of 20 years beyond the expiration date of the initial renewed license) are not so great that preserving the option of SLR for energy-planning decision-makers would be unreasonable. This recommendation is based on: (1) information provided in the environmental report, as supplemented, and other documents submitted by Xcel; (2) consultation with Federal, State, Tribal, and local governmental agencies; (3) the NRC staff's independent environmental review; (4) consideration of public comments received during the scoping process, on the site-specific DEIS (NUREG-1437, Supplement 26, Second Renewal); and (5) consideration of public comments received on the site-specific draft EIS (NUREG-1437, Supplement 26, Second Renewal).

Dated: November 18, 2024.
For the Nuclear Regulatory Commission.
Theodore Smith,
Acting Deputy Director, Division of Rulemaking, Environmental, and Financial Support, Office of Nuclear Material Safety and Safeguards.

[FR Doc. 2024-27317 Filed 11-20-24; 8:45 am]

BILLING CODE 7590-01-P